DEPARTMENT OF LABOR

Employment and Training Administration

[TA-W-59,390]

Eaton Corporation; Phelps, NY; Notice of Termination of Investigation

Pursuant to Section 221 of the Trade Act of 1974, an investigation was initiated on May 12, 2006 in response to a petition filed on behalf of workers at Eaton Corporation, Phelps, New York.

The petitioners have requested that the petition be withdrawn. Consequently, the investigation has been terminated.

Signed in Washington, DC, this 18th day of May 2006.
Elliott S. Kushner,
Certifying Officer, Division of Trade Adjustment Assistance.

[FR Doc. E6-8773 Filed 6-6-06; 8:45 am]

BILLING CODE 4510-30-P